DEPARTMENT OF DEFENSE

Department of the Navy

Notice of Public Meeting on the Environmental Assessment Addressing the Consolidation and Renovation at Marine Corps Forces Reserve Center Brooklyn, New York

AGENCY: Department of the Navy, Department of Defense.

ACTION: Notice.

SUMMARY: Pursuant to the National Environmental Policy Act of 1969 (NEPA) (42 United States Code [U.S.C.] Sections 4321-4370h); the Council on Environmental Quality (CEQ) regulations for implementing the procedural provisions of NEPA (Title 40 Code of Federal Regulations (CFR) parts 1500-1508); Department of the Navy (DoN) Procedures for Implementing NEPA (32 CFR part 775); and Marine Corps Order P5090.2A, the United States Marine Corps Forces Reserve (MARFORRES) has prepared an Environmental Assessment (EA) assessing the potential environmental impacts from the consolidation of approximately 55 full-time active duty and 549 reserve staff and their equipment from the Armed Forces Reserve Center Farmingdale and Marine Forces Reserve Center Garden City to Marine Corps Reserve Center Brooklyn. Additionally, MARFORRES would implement several associated facility and infrastructure improvements at MCRC Brooklyn, including a new utility corridor. Based on the EA analysis we are proposing to issue a Finding of No Significant Impact (FONSI) determining that an Environmental Impact Statement (EIS) is not required.

With the filing of the EA, the DON is initiating a 30-day public comment period and has scheduled a public open house to receive written comments on the EA. Federal, state, and local agencies and interested individuals are invited to attend the open house. This notice announces the date and location of the open house, and supplementary information about the environmental planning effort.

DATES: The EA public 30-day review period begins June 20, 2016. MARFORRES will hold an open house for the public to learn about the project and ask questions on Wednesday, June 29, 2016 from 6:00 p.m. to 9:00 p.m. at the Aviator Sports Club on Floyd Bennett Field.

The DON will consider all comments received on the EA when preparing the Final EA. The DON expects to issue the Final EA in August 2016, at which time a Notice of Availability will be published in the Federal Register.

Availability: The EA has been distributed to Federal and local agencies, elected officials, and the interested public. The EA can be viewed at the following Web site: http://www.marforres.marines.mil/GeneralSpecialStaff/Facilities.aspx.

Copies are available at the Brooklyn Public Library, 2115 Ocean Avenue, Brooklyn, NY. Requests for copies of the EA can be submitted to Mr. Christopher Hurst, NEPA Project Manager U.S. Marine Corps Forces Reserve, 2000 Opelousas Avenue, New Orleans, LA 70114, or by email at Christopher.A.Hurst@usmc.mil.

Comments: Attendees will be able to submit written comments at the open house. Comments may be submitted anytime during the 30-day public review period, and must be postmarked or electronically dated on or before July 15, 2016, to ensure they become part of the public record. All comments submitted during the official public review period will become part of the public record on the EA and will be responded to in the Final EA.

FOR FURTHER INFORMATION CONTACT: Mr. Christopher Hurst, NEPA Project Manager U.S. Marine Corps Forces Reserve, 2000 Opelousas Avenue, New Orleans, LA 70114, or by email at Christopher.A.Hurst@usmc.mil. Please submit requests for special assistance to Mr. Hurst by June 22, 2016.

SUPPLEMENTARY INFORMATION: MCRC Brooklyn encompasses approximately 70 acres of the 19,000-acre Jamaica Bay Unit of the National Park Service (NPS) Gateway National Recreation Area (NRA). MCRC Brooklyn is on the southernmost end of Floyd Bennett Field. Floyd Bennett Field was formerly U.S. Naval Air Station Brooklyn, New York, and was used from World War II until 1967, prior to its decommissioning in 1971.

Subsequently, the majority of the 1,450-acre property was transferred from the Department of Defense (DoD) to the U.S. Coast Guard and the NPS, a bureau of the Department of the Interior. The Navy retained the southern portion of Floyd Bennett Field and a series of parcel transfers deeded the property to MARFORRES in 1998 for continued use as MCRC Brooklyn. The remainder of Floyd Bennett Field is owned and managed by NPS as part of the Gateway NRA. All utilities, roads, and other infrastructure necessary for the installation require crossing NPS lands; therefore, the Department of Navy executes, on behalf of MARFORRES, any necessary permits with NPS for rights-of-way on NPS lands.

Gateway NRA is the nation's first urban national recreation area. It was established in 1972, is twice the size of Manhattan, and is divided into three administrative units: Jamaica Bay, Sandy Hook, and Staten Island. Gateway NRA has 27,025 acres of open bays, ocean, marsh islands, shoreline, dunes, maritime and successional forests, grasslands, mudflats, and open spaces. It includes marinas, greenways, campgrounds, trails, beaches, picnic grounds within historic landscapes, the remains of coastal defense works, rare structures from aviation history, and the oldest continuously operating lighthouse in the United States.

Due to an overall reduction in reserve forces, MARFORRES has examined options to consolidate training to optimize operational funds. MCRC Brooklyn is considered a highly valuable site by MARFORRES due to its potential for hosting additional units, centralized location, excess capacity, and size of its facilities. As such, MARFORRES continues to invest in modernization and renovation activities at MCRC Brooklyn. The environmental impacts from ongoing activities were analyzed in previous NEPA documents, and are therefore not part of the Proposed Action being addressed in this EA but are included in the cumulative effects analysis. Previously evaluated projects at MCRC Brooklyn include the following:

• Renovate the interior of the MCRC Brooklyn Administration Building, the original vehicle maintenance facility (VMF), and the existing Technical Storage Warehouse. Interior renovations include upgraded utilities and reconfiguration of offices.

• Construct a new VMF (currently under construction).

• Install two temporary armories (440 square feet each) in the tactical vehicle area and a covered weapons cleaning area.

• Install a 100-kilowatt (kW) demand response metering system. This system will help MARFORRES capture energy usage and savings for the installation.

Purpose And Need: The purpose of the Proposed Action is to consolidate existing MARFORRES facilities in the greater New York City metropolitan region to allow MARFORRES to optimize training through integrated unit training opportunities, and reduce costs from the operation of underutilized reserve centers. The Proposed Action is needed to improve long-term sustainable unit readiness through coordinated training, and prepare for future mission requirements. To complete training requirements, the buildings, utilities, and assets on MCRC Brooklyn require ongoing maintenance and utilities upgrades. Infrastructure on the installation is aging and requires capital investment to address deficiencies in the buildings and meet current and future mission requirements.

Dated: June 23, 2016.
N.A. Hagerty-Ford,
Commander, Office of the Judge Advocate General, U.S. Navy, Federal Register Liaison Officer.

[FR Doc. 2016-15358 Filed 6-28-16; 8:45 am]

BILLING CODE 3810-FF-P